DEPARTMENT OF AGRICULTURE

Forest Service

Hood/Willamette Resource Advisory Committee (RAC)

AGENCY: Forest Service, Department of Agriculture

ACTION: Action of meeting.

SUMMARY: The Hood/Willamette Resource Advisory Committee (RAC) will meet on Friday, October 8, 2004. The meeting and field trip is scheduled to begin at 9 a.m. and will conclude at approximately 4:30 p.m. The meeting will be held at the Hood River Ranger Station; 6780 Highway 35; Mt. Hood Parkdale, Oregon; (541) 352-6002. The tentative agenda includes: (1) Finalizing recommendations on 2004 projects; (2) field trip to Title II Projects; and (3) public forum.

The public forum is tentatively scheduled to begin at 9:15 p.m. Time allotted for individual presentations will be limited to 3-4 minutes. Written comments are encouraged, particularly if the material cannot be presented within the time limits for the public forum. Written comments may be submitted prior to the October 8th meeting by sending them to Designated Federal Official Donna Short at the address given below.

FOR FURTHER INFORMATION CONTACT: For more information regarding this meeting, contact Designated Federal Official Donna Short; Sweet Home Ranger District; 3225 Highway 20; Sweet Home, Oregon 97386; (541) 367-9220.

Dated: September 15, 2004.
Dallas J. Emch,
Forest Supervisor.

[FR Doc. 04-21167 Filed 9-20-04; 8:45 am]

BILLING CODE 3410-11-M